DEPARTMENT OF COMMERCE

National Oceanic and Atmospheric Administration

[I.D. 011907C]

Atlantic Highly Migratory Species; Exempted Fishing Permits

AGENCY: National Marine Fisheries Service (NMFS), National Oceanic and Atmospheric Administration (NOAA), Commerce.

ACTION: Notice.

SUMMARY: NMFS has decided not to proceed with issuing exempted fishing permits (EFPs) to collect data during Atlantic billfish tournaments to evaluate the impacts of J-style fishing hooks (J-hooks) and heavy tackle on Atlantic blue marlin. NMFS may consider potential strategies or mechanisms to mitigate impacts on tournaments in the future.

FOR FURTHER INFORMATION CONTACT: Russell Dunn or Randy Blankinship, 727-824-5399; fax: 727-824-5398.

SUPPLEMENTARY INFORMATION: EFPs are requested and issued under the authority of the Magnuson-Stevens Fishery Conservation and Management Act (16 U.S.C. 1801 et seq.) and/or the Atlantic Tunas Convention Act (16 U.S.C. 971 et seq.). Regulations at 50 CFR 600.745 and 635.32 govern scientific research activity, exempted fishing, and exempted educational activity with respect to Atlantic Highly Migratory Species (HMS). NMFS received EFP applications from five Atlantic billfish tournament operators on behalf of 15 tournaments requesting exemptions from requirements for anglers fishing from HMS permitted vessels and participating in Atlantic billfish tournaments to use non-offset circle hooks when using natural bait and natural bait/artificial lure combinations. The requests were received for tournaments that would operate in the U.S. Southeast Atlantic and Gulf of Mexico.

NMFS has considered public comment received on the final Environmental Impact Statement for the final Consolidated HMS Fishery Management Plan (October 2, 2006; 71 FR 58058); comment received during the October 3-4, 2006, Highly Migratory Species Advisory Panel meeting (August 30, 2006; 71 FR 51577); and public comment received in response to a notice of intent to issue EFPs (November 27, 2006; 71 FR 68558). Comments received expressed concern over the difficulty of standardizing fishing gear type and use in a tournament setting. Comments also expressed concern over the quality of data collected in a tournament setting and the data's scientific applicability given the fishing characteristics of tournaments (fast paced activity, focus on catching and retaining specific species and/or size classes, and varying tournament rules). Finally, comments were received that expressed a general lack of support for conducting research and/or data collection in tournaments for the reasons stated above. NMFS worked with billfish tournament constituents to address the concerns over study design and data collection; however, difficulty continued in resolving many of the concerns.

As a result, NMFS has determined that collection of data to evaluate the impacts of J-hooks and heavy tackle on Atlantic blue marlin during billfish tournaments in the U.S. Atlantic and Gulf of Mexico would be problematic because of the varying conditions and methodologies discussed above that would likely occur within tournaments and between tournaments. NMFS will consider potential strategies and mechanisms other than EFPs to mitigate the impacts of specific hook requirements on Atlantic billfish tournaments and tournament participants in future rulemaking.

Authority: 16 U.S.C. 971 et seq. and 16 U.S.C. 1801 et seq.

Dated: January 29, 2007.
Alan D. Risenhoover,
Director, Office of Sustainable Fisheries, National Marine Fisheries Service.

[FR Doc. 07-440 Filed 1-29-07; 2:25 pm]

BILLING CODE 3510-22-S